DEPARTMENT OF HOMELAND SECURITY

Transportation Security Administration

[Docket No. TSA-2002-11602]

Extension of Agency Information Collection Activity Under OMB Review: Security Programs for Foreign Air Carriers

AGENCY: Transportation Security Administration, DHS.

ACTION: 30-day notice.

SUMMARY: This notice announces that the Transportation Security Administration (TSA) has forwarded the Information Collection Request (ICR), Office of Management and Budget (OMB) control number 1652-0005, abstracted below to OMB for review and approval of an extension of the currently approved collection under the Paperwork Reduction Act (PRA). The ICR describes the nature of the information collection and its expected burden. This information collection is mandatory for foreign air carriers and must be submitted prior to entry into the United States.

DATES: Send your comments by January 6, 2025. A comment to OMB is most effective if OMB receives it within 30 days of publication.

ADDRESSES: Written comments and recommendations for the proposed information collection should be sent within 30 days of publication of this notice to https://www.reginfo.gov/public/do/PRAMain. Find this particular information collection by selecting “Currently under Review—Open for Public Comments” and by using the find function.

FOR FURTHER INFORMATION CONTACT: Christina A. Walsh, TSA PRA Officer, Information Technology (IT), TSA-11, Transportation Security Administration, 6595 Springfield Center Drive, Springfield, VA 20598-6011; telephone (571) 227-2062; email TSAPRA@dhs.gov.

SUPPLEMENTARY INFORMATION: TSA published a Federal Register notice, with a 60-day comment period soliciting comments, of the following collection of information on September 24, 2024, 89 FR 77884. TSA did not receive any comments on the notice.

Comments Invited

In accordance with the Paperwork Reduction Act of 1995 (44 U.S.C. 3501 et seq.), an agency may not conduct or sponsor, and a person is not required to respond to, a collection of information unless it displays a valid OMB control number. The ICR documentation is available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Security Programs for Foreign Air Carriers.

Type of Request: Extension of a currently approved collection.

OMB Control Number: 1652-0005.

Forms(s): N/A.

Affected Public: Foreign air carriers.

Abstract: TSA uses the information collected to determine compliance with 49 CFR part 1546 and to ensure passenger safety by monitoring foreign air carrier security procedures. Foreign air carriers must carry out security measures to provide for the safety of persons, property, and cargo transported on aircraft provided by the foreign air carrier against acts of criminal violence and air piracy, and the introduction of unauthorized explosives, incendiaries, or weapons aboard an aircraft. The foreign air carrier's security program must provide a level of protection similar to the level of protection provided by U.S. aircraft operators serving the same airports, and the foreign air carrier must employ procedures equivalent to those required of U.S. aircraft operators serving the same airport, if TSA determines such procedures are necessary to provide a similar level of protection. This information collection is mandatory for foreign air carriers and must be submitted prior to entry into the United States. The TSA information collection includes providing information to TSA as set forth in the carrier's security program, which includes any amendments; maintaining records of compliance with 49 CFR part 1546 and the foreign air carrier's security program, including security training records; suspicious incident reporting; and submitting identifying information on foreign air carriers' flight crews, passengers, and cargo.

Estimated Annual Number of Respondents: 180.

Estimated Annual Burden Hours: 241,485.

Dated: December 2, 2024.
Christina A. Walsh,
TSA Paperwork Reduction Act Officer, Information Technology.

[FR Doc. 2024-28478 Filed 12-4-24; 8:45 am]

BILLING CODE 9110-05-P